DEPARTMENT OF TRANSPORTATION

Federal Aviation Administration

[Summary Notice No. PE-2021-2068]

Petition for Exemption; Summary of Petition Received; Airlines for America

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 11, 2021.

ADDRESSES: Send comments identified by docket number FAA-2020-0429 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-612, Federal Aviation Administration, 2200 South 216th Street, Des Moines, WA 98198, phone and fax 206-231-3187, email deana.stedman@faa.gov.

This notice is published pursuant to 14 CFR 11.85.

Issued in Washington, DC, on April 16, 2021.
Daniel J. Elgas,
Manager, Strategic Policy Management Branch,Policy and Innovation Division, Aircraft Certification Service.

Petition for Exemption

Docket No.: FAA-2020-0429

Petitioner: Airlines for America

Section(s) of 14 CFR Affected: §§ 91.9(a) and (b), 121.153(a), 121.337(b)(9)(iii)

Description of Relief Sought: Airlines for America petitions for a one-year extension of FAA Exemption No. 18561A that is set to terminate on July 10, 2021. That exemption permits relief from 14 CFR 91.9(a) and 121.153(a)(2) and allows member airlines to transport cargo, subject to the FAA's conditions, on passenger seats of transport category airplanes when no revenue passengers are being transported. Due to the ongoing reduction in demand, passenger carriers continue to have the capacity to carry cargo, including critical medical cargo, in cabin. Approval of the petition would allow operators of passenger airplanes to support COVID-19 response efforts by continuing to carry cargo in-cabin, including critical medical cargo.

[FR Doc. 2021-08264 Filed 4-20-21; 8:45 am]

BILLING CODE 4910-13-P